DEPARTMENT OF ENERGY

Federal Energy Regulatory Commission

[Docket Nos. RM01-10-000 and EY06-4-000]

Standards of Conduct for Transmission Providers; Enbridge Inc. and Enbridge Energy Partners, L.P.; Notice Granting Waiver of Recordkeeping Requirements

October 24, 2005.

On October 18, 2005, Enbridge Inc. and Enbridge Energy Partners, L.P. (collectively, Enbridge), on behalf of certain of their respective Offshore Pipelines,¹ filed to seek a temporary emergency waiver of section 358.4(a)(2) of the Commission's regulations and for any other waivers necessary for Enbridge to proceed with the restoration work on its Offshore Pipelines. Enbridge requests that the waivers begin October 7, 2005 and continue until the earlier of the end of the gas day on March 31, 2006 (the last day of the 2005-2006 winter heating season) or the date on which the throughput expected for the particular pipeline is fully restored. Effective on the date of this notice, the Commission will grant each of the Enbridge Offshore Pipelines a waiver of the otherwise applicable requirements of section 358.4(a)(2) to record a log of emergency-related deviations from the Standards of Conduct and to post these deviations on their Web sites; this extension will expire individually for each pipeline on the earlier of when that pipeline has completed its hurricane-related repairs and is ready to return to service, or January 13, 2006.

¹ Enbridge is filing on behalf of Enbridge Offshore Pipelines (UTOS) L.L.C. Enbridge Energy Partners, L.P. is filing on behalf of Garden Banks Gas Pipeline, LLC, Mississippi Canyon Gas Pipeline, LLC, Nautilus Pipeline Company, L.L.C. and Stingray Pipeline Company, L.L.C. (collectively, Offshore Pipelines).

Enbridge explains that, in the area impacted by Hurricanes Katrina and Rita, the Offshore Pipelines are either off-line entirely or are continuing to experience throughput that is substantially lower than the throughput projected for these pipelines prior to the hurricanes.² Enbridge explains further, that, as a result of the substantial damage caused to the energy infrastructure in the Gulf Coast area, the Offshore Pipelines are suffering emergencies affecting their systems' reliability. Enbridge states that it is necessary for the Offshore Pipeline employees who are assisting in the restoration efforts to communicate with other Enbridge employees and with third-party employees about the status of the restoration efforts and to coordinate joint operations and repair work, without regard to their designation under the Standards of Conduct. Enbridge states that the requirement to log each individual deviation would be burdensome and would complicate the Offshore Pipelines' restoration efforts. Enbridge notes that its waiver is limited to those employees involved in the ongoing restoration efforts and the communications required in connection with that effort. Enbridge states that the affected employees will observe the no-conduit requirement in the Standards of Conduct.

² Enbridge states that the Offshore Pipelines are currently experiencing approximately 1,315,000 Dth/d in decreased throughput due to hurricane-related damage along the Gulf Coast and in the Gulf of Mexico.

Due to the emergency conditions in Louisiana and Texas created by Hurricane Rita, on September 23, 2005, the Commission issued a notice that, among other things, allowed affected transmission providers to delay, until October 7, 2005, compliance with the requirement of section 358.4(a)(2) of the Commission's regulations, 18 CFR 358.4(a)(2) (2005), to report to the Commission and post on the OASIS or Internet Web site, as applicable, each emergency that resulted in any deviation from the Standards of Conduct.³ Due to the extreme nature of the emergency, the Commission also waived, until October 7, 2005, the requirements to record and retain a record of each deviation of the Standards of Conduct.⁴ The notice added that the Commission would consider extending the waiver if it continued to be needed after October 7, 2005. The Commission had previously granted similar waivers due to Hurricane Katrina.⁵

³ Notice Granting Extension of Time To Comply With Posting and Other Requirements, Standards of Conduct for Transmission Providers, Docket Nos. EY05-20-000, et al. (September 23, 2005).

⁴ Id.

⁵ Notice Granting Extension of Time To Comply With Posting and Other Requirements, Standards of Conduct for Transmission Providers, Docket Nos. EY05-14-000, et al. (August 31, 2005); Notice Waiving Record Keeping Requirements, Standards of Conduct for Transmission Providers, Docket Nos. EY05-14-001, et al. (September 7, 2005).

Based on available information regarding the expected restoration dates for Enbridge's pipeline operations, the Commission grants Enbridge a waiver of the recording and posting requirements of section 358.4(a)(2) of the Commission's regulations under these emergency circumstances effective on the date of this notice until the earlier of January 13, 2006, or the date on which each individual offshore pipeline's hurricane-related repairs are completed and that pipeline is ready to return to service, without prejudice to Enbridge requesting a further extension, if necessary.

Magalie R. Salas,
Secretary.

[FR Doc. E5-6038 Filed 11-1-05; 8:45 am]

BILLING CODE 6717-01-P